DEPARTMENT OF AGRICULTURE

Forest Service

Shasta-Trinity National Forest, California Mudflow Vegetation Management Project

AGENCY: Forest Service, USDA.

ACTION: Notice of intent to prepare an environmental impact statement.

SUMMARY: Shasta-Trinity National Forest proposes to harvest timber and remove accumulations of down wood (fuels) on approximately 2900 acres of National Forest System lands. Trees on about 80% of the area would be thinned by removing a portion of the trees from overcrowded forest stands. Trees removed would be those infected with disease or insects and those generally smaller in size than trees that will be retained. Most of the trees on approximately 15% of the area are infected by root disease and insects and would be removed. Young tree seedlings would be planted in the openings created in these areas. Encroaching conifers will be removed from the remaining 5% of the area to restore and maintain wet meadow characteristics in a condition that existed in the past. The majority of project area is within township T40N, R2W, MDM with minor inclusions in T39N, R2W and T40N, R3W, MDM. The project is located immediately north and east of the town of McCloud, California. The Forest Land and Resource Management Plan has allocated portions of the project area to Late-Successional Reserves and Special Area Management (Research Natural Area) with the remainder designated as Matrix lands. About five percent of the area is zoned as Riparian Reserve (wetlands and areas adjacent to streams).

DATES: Comments concerning the scope of the analysis should be received no later than 30 days after the publication of this notice in the Federal Register. The draft environmental impact statement is expected in June 2007 and the final environmental impact statement is expected in September 2007.

ADDRESSES: Send written comments to District Ranger Michael Hupp, Shasta-McCloud Management Unit, 204 W. Alma Street, Mt. Shasta, California 96067.

FOR FURTHER INFORMATION CONTACT: Dusty Miller, McCloud Ranger Station, P.O. Box 1620, McCloud, California 96057, telephone (530) 964-3771 or via e-mail at dmiller@fs.fed.us.

SUPPLEMENTARY INFORMATION:

Purpose and Need for Action

A century of fire exclusion in the project area has resulted in overcrowded forest conditions and the loss of wet meadow habitat. Overcrowded conditions in forested areas have reduced tree vigor, reduced the proportion of hardwoods in forested areas and promoted the spread of root diseases. In the absence of fire, an understory of shrubs and small trees has developed which can act as a fuel ladder and carry fire into the forest canopy resulting in the loss of forest habitat. The lack of fire has resulted in accumulations of ground fuels which also increases the likelihood of flames reaching the canopy layer. The purpose of this project is to meet Forest Plan objectives by restoring forest ecosystem health within the project area through a variety of management activities.

There is a need to reduce tree density in areas where overcrowded forest conditions currently exist. Thinning will improve the health of these forest areas by making more water, nutrients and sunlight available for use by the remaining trees with a subsequent improvement in the ability of trees to withstand insects, pathogens and drought. Removing small trees from the understory will remove ladder fuels that may otherwise carry fire from the ground into the forest canopy if wildfire occurs. This is important because it will leave the treated stands in a more sustainable, healthy condition. There is a need to break the current cycle of re-infection in areas heavily infected by root diseases. The removal of groups of diseased trees will remove the source of infection from affected areas. Re-planting with conifer species suited to the specific root disease problems identified at each site will reestablish live trees. This is important because it will reduce future tree mortality and slow or stop the spread of root diseases in the project area.

There is a need to reduce accumulations of ground fuels to levels where flames are not likely to reach the canopy layer in case of wildfire. Machine piling and burning will reduce fuel loads in treatment areas while still meeting other resource needs. This is important because it will reduce the probability of stand replacing wildfires. There is a need to restore the historic size, continuity, and function of wet meadow ecosystems in the project area. Encroaching conifers will be removed from areas that were historically meadows and where trees may not be sustainable due to mortality resulting from fluctuating water tables. The removal of competing conifers will promote the development of naturally occurring hardwoods and meadow vegetation. Restoration activities will return meadows to conditions that will allow the reintroduction of fire to maintain natural ecosystem function. This is important because meadows provide significant water storage and biodiversity.

There is a need to provide for the long-term sustainability of hardwoods in the landscape. In dense mixed conifer/hardwood forests, the abundance and vigor of hardwoods is declining as overtopping conifers block necessary sunlight. Treatments in such areas will emphasize the removal of some competing conifers to provide growing space and sunlight for overtopped hardwoods. In dense mature oak stands with little reproduction, oak trees will be thinned to promote growth and encourage stump sprouting. In areas where the surrounding conifer forest has encroached and replaced historic aspen stands, most conifer trees will be removed to allow residual aspen trees to reclaim the site. This is important because hardwoods provide valuable wildlife habitat and stand diversity and are important in Native American traditions.

Proposed Action

The project will include the following treatments:

1. Thinning treatments on approximately 2100 acres.

In all thinning treatments, trees will be thinned to a spacing that is appropriate for the species, age, and site. The smallest trees will generally be removed from the stand leaving the healthiest dominant trees.

a. On approximately 350 acres of 25-45 year old ponderosa pine plantations, trees will be thinned to a spacing of approximately 20-30 feet by generally removing the smallest trees.

b. On approximately 1100 acres of 75-95 year old mixed conifer forest, trees will be thinned to a spacing that is appropriate for the species, age, and site. The smallest trees will generally be removed from the stand leaving the healthiest dominant trees.

c. On approximately 250 acres of 75-95 year old mixed conifer and ponderosa pine forest, dense stands of trees will be thinned but groups of trees will also be harvested on 20% of the area to create 1.5 to 3.5 acre openings. These openings will be concentrated in areas of heavy mortality and will be replanted with a mix of species determined to be appropriate for the site. The remaining 80% of the area will be thinned as described in “b” above to promote the health and growth of the trees. Group selection is applied as an uneven-aged silvicultural treatment intended to regenerate forest stands gradually over time and to develop stand structure and age diversity.

d. On approximately 400 acres of 75-95 year old mixed conifer forest with pockets of root disease, trees will be thinned as described in “b” above. In addition, all dead, dying, and diseased trees in pockets infected with root disease will be removed unless they are needed to meet other resource needs. Resulting openings will be replanted with species resistant to the specific root disease found at the site.

2. Shaded fuelbreak on approximately 120 acres.

A 100-meter wide shaded fuelbreak will be established along the eastern perimeter of the Shasta Mudflow Research Natural Area (RNA). The crowns of overstory trees will be spaced to reduce the risk of wildfire entering or leaving the RNA. Understory trees and brush will be removed or spaced to eliminate fuel ladders which can carry ground fire into the forest canopy.

3. Sanitation treatments on approximately 350 acres.

On approximately 350 acres, understocked ponderosa pine forests that are heavily infected with root disease will be sanitized. All infected trees will be removed from the site to break the cycle of re-infection. Resulting understocked areas will be replanted with an appropriate mix of conifer species suited to the specific root disease problems identified at each site. There are insufficient large healthy trees on approximately 200 acres to meet standards and guidelines for Reserve Trees; therefore, a site specific forest plan amendment will be required. Excess ground fuels will be piled and burned.

4. Regeneration treatments on approximately 100 acres.

On approximately 100 acres, understocked ponderosa pine forests resulting from continuing mortality due to root disease will be regenerated with reserve trees retained on 15% of the area. Reserve trees will be selected with an emphasis on retaining the largest and oldest trees and those species resistant to the specific root diseases identified at each site. Existing healthy natural reproduction will be retained wherever possible. All other trees will be removed. Accumulations of dead and down trees and ground fuels will be piled and burned. These areas will be replanted with a mix of species determined to be appropriate for the site.

5. Meadow and wetland restoration on approximately 200 acres.

On approximately 200 acres, vegetation will be treated to restore and maintain wet meadow ecosystems in a size and condition observed in the earliest available aerial photography and using existing plant communities as a indicator of areas suitable for meadow restoration. Encroaching smaller conifers, generally less than 80 years old, will be removed to enhance hardwoods and riparian vegetation and to restore natural functioning of the meadow ecosystem. Scattered large overstory trees will be retained. Fuels will be modified to allow the future use of prescribed fire to maintain meadows in their naturally occurring condition.

6. Hardwood thinning on approximately 50 acres.

On approximately 50 acres of black oak stands, overcrowded oak clumps will be thinned to promote growth and prevent future decline of the hardwood habitat type in the area. Suppressed and understory oak stems will be removed where trees are obviously overcrowded. Some competing conifers will be removed to promote development of black oak.

On all proposed treatments, excess trees will be removed as commercial wood products wherever possible. Small-diameter trees will be removed as wood chips while larger trees will be removed as sawlogs. Whole tree removal will be used wherever possible to minimize the accumulation of additional ground fuels. Heavy concentrations of down wood will be reduced by tractor piling and burning. All fresh conifer stumps greater than 14 inches in diameter will be treated with borax to prevent the spread of annosus root disease.

The project may include the construction of short lengths of temporary road and the closure or decommissioning of other roads.

Anticipated timber harvest outputs from this project are approximately 20-25 thousand CCF (10-15 MMBF) of sawlog products plus approximately 1,500 tons of wood chips.

Lead and Cooperating Agencies

Lead Agency: USDA, Forest Service.

Responsible Official

J. Sharon Heywood, Forest Supervisor, Shasta-Trinity National Forest, 3644 Avtech Parkway, Redding, CA 96002.

Nature of Decision To Be Made

The Forest Supervisor will decide whether to implement the proposed action, take an alternative action that meets the purpose and need, or take no action.

A non-significant Forest Plan amendment regarding the green-tree retention standard and guideline will be part of this decision to address deteriorating forest conditions in large areas of dead and dying trees resulting from root disease.

Scoping Process

The project is included in the Shasta-Trinity National Forest's quarterly schedule of proposed actions (SOPA). Information on the proposed action will also be posted on the Forest Web site, http://www.fs.fed.us/r5/shastatrinity/projects, and advertised in both the Redding Record Searchlight and the Mount Shasta Herald. This notice of intent initiates the scoping process, which guides the development of the environmental impact statement. Comments submitted during this scoping process should be in writing and should be specific to the proposed action. The comments should describe as clearly and completely as possible any issues the commenter has with the proposal. The scoping process include:

(a) Identifying potential issues.

(b) Identifying issues to be analyzed in depth.

(c) Eliminating non-significant issues or those previously covered by a relevant previous environmental analysis.

(d) Exploring additional alternatives.

(e) Identifying potential environmental effects of the proposed action and alternatives.

Early Notice of Importance of Public Participation in Subsequent Environmental Review

A draft environmental impact statement will be prepared for comment. The comment period on the draft environmental impact statement will be 45 days from the date the Environmental Protection Agency publishes the notice of availability in the Federal Register. The Forest Service believes it is important to give reviewers notice of several court rulings related to public participation in the environmental review process. First, reviewers of draft environmental impact statements must structure their participation in the environmental review of the proposal so that it is meaningful and alerts an agency to the reviewer's position and contentions. (Vermont Yankee Nuclear Power Corp. v. NRDC, 435 U.S. 519, 553 (1978)). Also, environmental objections that could be raised at the draft environmental impact statement stage but that are not raised until after completion of the final environmental impact statement may be dismissed by the courts. (City of Angoon v. Hodel, 803 F.2d 1016, 1022 (9th Cir. 1986) and Wisconsin Heritage, Inc. v. Harris, 490 F. Supp. 1334, 1338 (E.D. Wis. 1980)). Because of these court rulings, it is very important that those interested in this proposed action participate by the close of the 45 day comment period thus ensuring substantive comments and objections are available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: April 4, 2007.
J. Sharon Heywood,
Forest Supervisor, Shasta-Trinity National Forest.

[FR Doc. 07-2018 Filed 4-23-07; 8:45 am]

BILLING CODE 3410-11-M